DEPARTMENT OF AGRICULTURE

Forest Service

Notice of Meeting; Southwest Oregon Province Advisory Committee

SUMMARY: The Southwest Oregon Province Advisory Committee will meet on Wednesday, March 17, 2004. The meeting begins at 9 a.m. and ends at 5 p.m.; the open public forum begins at 11:30 a.m. It will be held at the J. Herbert Stone Nursery, 2606 Old Stage Road, Central Point, Oregon in the Employee Center. The tentative agenda include: (1) Biscuit Fire Recovery Project Draft Environmental Impact Statement update; (2) Port-Orford-cedar Supplemental Environmental Impact Statement update; and (3) Province Advisory Committee 2004 Work Plan development.

FOR FURTHER INFORMATION CONTACT: Rogue River-Siskiyou National Forest Public Affairs Officer Mary T. Marrs at (541) 858-2211, e-mail mmarrs@fs.fed.us, or USDA Forest Service, 333 West 8th Street, Medford, OR, 97501.

Dated: February 4, 2004.
M.J. Harvie,
Fire and Aviation Staff Officer, Rogue River-Siskiyou National Forest.

[FR Doc. 04-2776 Filed 2-9-04; 8:45 am]

BILLING CODE 3410-11-M